DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The purpose of the Services Subcommittee is to review the current state of services and supports for individuals with Autism Spectrum Disorder (ASD) and their families in order to improve these services. The meeting will be open to the public with attendance limited to space available. The meeting will also be open to the public through a conference call phone number and a Web presentation tool on the Internet. Individuals who participate in person or by using electronic services and who need special assistance, such as captioning of the conference call or other reasonable accommodations, should submit a request to the Contact Person at least 7 days prior to the meeting.

Name of Committee: Interagency Autism Coordinating Committee (IACC).

Type of meeting: Services Subcommittee.

Date: September 15, 2009.

Time: 1 p.m. to 4 p.m. Eastern Time.

Agenda: Discussion of the IACC Services Town Hall Meeting that took place on July 24, 2009 in St. Charles, IL, and a presentation by IACC Services Subcommittee member Dr. Gail Houle and Dr. Sam Odom about programs for children with autism supported by the Department of Education.

Place:

In Person: National Institutes of Health, Main Campus Building 1, Wilson Hall, 3rd Floor, 1 Center Drive, Bethesda, MD 20892.

Webinar: https://www2.gotomeeting.com/register/724090747. To Access the Conference Call: Dial: 888-455-2920. Access code: 5697907.

Contact Person: Ms. Lina Perez, Office of Autism Research Coordination, Office of the Director, National Institute of Mental Health, NIH, 6001 Executive Boulevard, NSC, Room 8200, Bethesda, MD 20892-9669. 301-443-6040. IACCPublicInquiries@mail.nih.gov.

Please Note: Members of the public who participate using the conference call phone number will be able to listen to the meeting but will not be heard. For those who use the Web presentation tool to view the presentation, please call GoToWebinar at (800) 263-6317 to report any technical difficulties.

To access the Web presentation tool on the Internet the following computer capabilities are required:

(A) Internet Explorer 5.0 or later, Netscape Navigator 6.0 or later or Mozilla Firefox 1.0 or later;

(B) Windows® 2000, XP Home, XP Pro, 2003 Server or Vista;

(C) Stable 56k, cable modem, ISDN, DSL or better Internet connection;

(D) Minimum of Pentium 400 with 256 MB of RAM (Recommended);

(E) Java Virtual Machine enabled (Recommended).

NIH has instituted stringent security procedures for entrance onto the NIH campus. All visitors must enter through the NIH Gateway Center. This center combines visitor parking, non-commercial vehicle inspection and visitor ID processing, all in one location. The NIH will process all visitors in vehicles or as pedestrians. You will be asked to submit to a vehicle or personal inspection and will be asked to state the purpose of your visit. Visitors over 15 years of age must provide a form of government-issued ID such as a driver's license or passport. All visitors should be prepared to have their personal belongings inspected and to go through metal detection inspection.

When driving to NIH, plan some extra time to get through the security checkpoints at the visitor entrances to campus. Be aware that visitor parking lots on the NIH campus can fill up quickly. The NIH campus is also accessible via the metro Red Line, Medical Center Station. The Natcher Conference Center is a 5-minute walk from the Medical Center Metro Station. Additional NIH campus visitor information is available at: http://www.nih.gov/about/visitor/index.htm.

Information about the IACC and a registration link for this meeting are available on the Web site: http://www.iacc.hhs.gov.

Dated: August 24, 2009.
Jennifer Spaeth,
Director, Office of Federal Advisory Committee Policy.

[FR Doc. E9-20872 Filed 8-28-09; 8:45 am]

BILLING CODE 4140-01-P